DEPARTMENT OF COMMERCE

United States Patent and Trademark Office

37 CFR Part 2

[Docket No. PTO-T-2017-0054]

RIN 0651-AD29

Changes in Requirements for Collective Trademarks and Service Marks, Collective Membership Marks, and Certification Marks; Correction

AGENCY: United States Patent and Trademark Office, Commerce.

ACTION: Final rule; correcting amendment.

SUMMARY: The United States Patent and Trademark Office published in the Federal Register on June 11, 2015 a final rule, which became effective on July 11, 2015, revising the Trademark Rules of Practice. This document reinstates three paragraphs, which were inadvertently deleted as a result of an error in the amendatory instructions.

DATES: This rule is effective January 12, 2018.

FOR FURTHER INFORMATION CONTACT: Catherine Cain, Office of the Deputy Commissioner for Trademark Examination Policy, by email at TMFRNotices@uspto.gov, or by telephone at (571) 272-8946.

SUPPLEMENTARY INFORMATION: The USPTO issues this final rule to correct an inadvertent error in § 2.193(e)(1) of its June 11, 2015 final rule revising the Trademark Rules of Practice (80 FR 33170) (published under RIN 0651-AC89).

The June 11, 2015 final rule amended the introductory text of § 2.193(e)(1) to correspond with new § 2.2(n). However, the amendatory instruction inadvertently instructed that § 2.193(e)(1)(i)-(iii) be deleted. This correction revises the amendatory instruction and thereby reinstates paragraphs (i)-(iii).

This rule is issued without prior notice and opportunity for comment as this correction is procedural/interpretative in nature, and is being implemented to avoid inconsistencies and confusion with the rule issued on June 11, 2015. Additionally, as this correction rule is nonsubstantive, it is effective immediately upon publication.

Rulemaking Requirements

Executive Order 12866 (Regulatory Planning and Review): This rulemaking has been determined to be not significant for purposes of Executive Order 12866.

Executive Order 13771 (Reducing Regulation and Controlling Regulatory Costs): This rule is not an Executive Order 13771 regulatory action because this rule is not significant under Executive Order 12866.

List of Subjects in 37 CFR Part 2

Administrative practice and procedure, Trademarks.

For the reasons stated in the preamble and under the authority contained in 15 U.S.C. 1123 and 35 U.S.C. 2, as amended, the Office amends part 2 of title 37 as follows:

PART 2—RULES OF PRACTICE IN TRADEMARK CASES

1. The authority citation for 37 CFR part 2 continues to read as follows:

Authority: 15 U.S.C. 1113, 15 U.S.C. 1123, 35 U.S.C. 2, Section 10(c) of Pub. L. 112-29, unless otherwise noted.

2. In § 2.193, revise paragraph (e)(1) to read as follows:

§ 2.193 Trademark correspondence and signature requirements.

* * * * *

(e) * * *

(1) Verified statement of facts. A verified statement in support of an application for registration, amendment to an application for registration, allegation of use under § 2.76 or § 2.88, request for extension of time to file a statement of use under § 2.89, or an affidavit under section 8, 12(c), 15, or 71 of the Act must satisfy the requirements of § 2.2(n), and be signed by the owner or a person properly authorized to sign on behalf of the owner. A person who is properly authorized to verify facts on behalf of an owner is:

(i) A person with legal authority to bind the owner (e.g., a corporate officer or general partner of a partnership);

(ii) A person with firsthand knowledge of the facts and actual or implied authority to act on behalf of the owner; or

(iii) An attorney as defined in § 11.1 of this chapter who has an actual written or verbal power of attorney or an implied power of attorney from the owner.

* * * * *

Dated: January 8, 2018.
Joseph D. Matal,
Associate Solicitor Performing the Functions and Duties of the Under Secretary of Commerce for Intellectual Property and Director of the United States Patent and Trademark Office.

[FR Doc. 2018-00428 Filed 1-11-18; 8:45 am]

BILLING CODE 3510-16-P